DEPARTMENT OF VETERANS AFFAIRS

[OMB Control No. 2900-0074]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 3, 2006.

FOR FURTHER INFORMATION CONTACT: Denise McLamb, Records Management Service (005E3), Department of Veterans Affairs, 810 Vermont Avenue, NW., Washington, DC 20420, (202) 565-8374, FAX (202) 565-6950 or e-mail denise.mclamb@mail.va.gov. Please refer to “OMB Control No. 2900-0074.” Send comments and recommendations concerning any aspect of the information collection to VA's OMB Desk Officer, OMB Human Resources and Housing Branch, New Executive Office Building, Room 10235, Washington, DC 20503 (202) 395-7316. Please refer to “OMB Control No. 2900-0074” in any correspondence.

SUPPLEMENTARY INFORMATION:

Title: Request for Change of Program or Place of Training for Veterans, (Under Chapters 30 and 32, Title 10, U.S.C.; Chapters 1606 and 1607, Title 10, U.S.C. and Section 903 of Public Law 96-342), VA Form 22-1995.

OMB Control Number: 2900-0074.

Type of Review: Revision of a currently approved collection.

Abstract: Claimants receiving educational benefits complete VA Form 22-1995 to request a change in program or training establishment. VA uses the data collected to determine the claimant's eligibility for continued educational benefits.

An agency may not conduct or sponsor, and a person is not required to respond to a collection of information unless it displays a currently valid OMB control number. The Federal Register Notice with a 60-day comment period soliciting comments on this collection of information was published on February 14, 2006 at pages 7827.

Affected Public: Individuals or households.

Estimated Annual Burden: 31,563 hours.

a. Electronically—6,313 hours.

b. Paper Copy—25,250 hours.

Estimated Average Burden per Respondent:

a. Electronically—15 minutes.

b. Paper Copy—20 minutes.

Frequency of Response: On occasion.

Estimated Number of Respondents: 101,000.

a. Electronically—25,250.

b. Paper Copy—75,750.

Dated: May 22, 2006.
By direction of the Secretary.
Denise McLamb,
Program Analyst, Records Management Service.

[FR Doc. E6-8418 Filed 5-31-06; 8:45 am]

BILLING CODE 8320-01-P